NATIONAL LABOR RELATIONS BOARD

Sunshine Act Meetings: February 2012

Time and Dates:

All meetings are held at 2:30 p.m.

Wednesday, February 1;

Thursday, February 2;

Tuesday, February 7;

Wednesday, February 8;

Thursday, February 9;

Tuesday, February 14;

Wednesday, February 15;

Thursday, February 16;

Tuesday, February 21;

Wednesday, February 22;

Thursday, February 23;

Tuesday, February 28;

Wednesday, February 29.

Place: Board Agenda Room, No. 11820, 1099 14th St., NW., Washington DC 20570

Status: Closed.

Matters To Be Considered: Pursuant to § 102.139(a) of the Board's Rules and Regulations, the Board or a panel thereof will consider “the issuance of a subpoena, the Board's participation in a civil action or proceeding or an arbitration, or the initiation, conduct, or disposition * * * of particular representation or unfair labor practice proceedings under section 8, 9, or 10 of the [National Labor Relations] Act, or any court proceedings collateral or ancillary thereto.” See also 5 U.S.C. 552b(c)(10).

DATED: January 26, 2012.

CONTACT PERSON FOR MORE INFORMATION: Lester A. Heltzer, Executive Secretary, (202) 273-1067.

Lester A. Heltzer,
Executive Secretary.

[FR Doc. 2012-2053 Filed 1-26-12; 4:15 pm]

BILLING CODE 7545-01-P